FEDERAL DEPOSIT INSURANCE CORPORATION

Sunshine Act Meetings

TIME AND DATE: 10:00 a.m. on Tuesday, December 13, 2022.

PLACE: The meeting is open to the public. Out of an abundance of caution related to current and potential coronavirus developments, the public's means to observe this Board meeting will be via a Webcast live on the internet and subsequently made available on-demand approximately one week after the event. Visit https://youtu.be/s7moPsvjKto to view the meeting. If you need any technical assistance, please visit our Video Help page at: https://www.fdic.gov/video.html.

Observers requiring auxiliary aids (e.g., sign language interpretation) for this meeting should email DisabilityProgram@fdic.gov to make necessary arrangements.

STATUS: Open.

MATTERS TO BE CONSIDERED: Pursuant to the provisions of the “Government in the Sunshine Act” (5 U.S.C. 552b), notice is hereby given that the Federal Deposit Insurance Corporation's Board of Directors will meet in open session to consider the following matters:

Summary Agenda

No substantive discussion of the following items is anticipated. These matters will be resolved with a single vote unless a member of the Board of Directors requests that an item be moved to the discussion agenda.

Disposition of Minutes of a Board of Directors' Meeting Previously Distributed.

Summary reports of actions taken pursuant to authority delegated by the Board of Directors.

Discussion Agenda

Memorandum and resolution re: Proposed 2023 FDIC Operating Budget.

Memorandum and resolution re: Notice of Proposed Rulemaking on FDIC Official Sign and Advertising Rule and a Rule Relating to False Advertising, Misrepresentations, and Misuse of the FDIC's Name and Logo.

Memorandum and resolution re: Amendments to the Guidelines for Appeals of Material Supervisory Determinations.

CONTACT PERSON FOR MORE INFORMATION: Requests for further information concerning the meeting may be directed to Debra A. Decker, Executive Secretary of the Corporation, at 202-898-8748.

Dated at Washington, DC, on December 6, 2022.
Federal Deposit Insurance Corporation.
James P. Sheesley,
Assistant Executive Secretary.

[FR Doc. 2022-26868 Filed 12-8-22; 11:15 am]

BILLING CODE 6714-01-P